DEPARTMENT OF COMMERCE

International Trade Administration

A-475-818

Certain Pasta From Italy: Notice of Final Results of Antidumping Duty Changed Circumstances Review and Revocation, in Part

AGENCY: Import Administration, International Trade Administration, Department of Commerce.

SUMMARY: On July 2, 2009, the Department of Commerce (“the Department”) published a notice of initiation and preliminary results of a changed circumstances review and intent to revoke, in part, the antidumping duty order of certain pasta from Italy.¹ The Department gave interested parties an opportunity to comment on the preliminary results and notice of intent to revoke, but received no comments. Therefore, the final results do not differ from the preliminary results of review and we are revoking the order, in part, with respect to gluten-free pasta.

¹ See Certain Pasta from Italy: Initiation and Preliminary Results of Antidumping Duty Changed Circumstances Review, and Intent to Revoke Order in Part, 74 FR 31696 (July 2, 2009) (“Preliminary Results”).

EFFECTIVE DATE: July 1, 2008.

FOR FURTHER INFORMATION CONTACT: Christopher Hargett, AD/CVD Operations, Office 3, Import Administration, International Trade Administration, U.S. Department of Commerce, 14th Street & Constitution Avenue, NW, Washington, DC 20230; telephone: (202) 482-4161.

SUPPLEMENTARY INFORMATION:

Background

On July 24, 1996, the Department published in the Federal Register an antidumping duty order on certain pasta from Italy.² On May 22, 2009, Pasta Lensi S.r.L. (“Pasta Lensi”) requested that the Department initiate a changed circumstances review and revoke, in part, the antidumping duty order on certain pasta from Italy with respect to gluten-free pasta based on a lack of interest in maintaining the order by petitioners. See May 22, 2009, letter from Pasta Lensi to the Secretary of Commerce. On June 1, 2009, petitioners expressed a lack of interest in maintaining the order with respect to gluten-free pasta.³ On July 2, 2009, the Department published a notice of initiation and preliminary results and intent to revoke, in part, a changed circumstances review of the antidumping order.⁴ We received no comments.

² See Notice of Antidumping Duty Order and Amended Final Determination of Sales at Less Than Fair Value: Certain Pasta from Italy, 61 FR 38547 (July 24, 1996).

³ See Memo from Christopher Hargett, Case Analyst, AD/CVD Operations 3, to Melissa Skinner, Office Director, AD/CVD Operations 3 entitled “Phone Conversation with Counsel for Petitioners,” dated June 2, 2009.

⁴ See Preliminary Results, 74 FR 31696 (July 2, 2009).

Scope of Review

Imports covered by this review are shipments of certain non-egg dry pasta in packages of five pounds (2.27 kilograms) or less, whether or not enriched or fortified or containing milk or other optional ingredients such as chopped vegetables, vegetable purees, milk, gluten, diastases, vitamins, coloring and flavorings, and up to two percent egg white. The pasta covered by this scope is typically sold in the retail market, in fiberboard or cardboard cartons, or polyethylene or polypropylene bags of varying dimensions.

Excluded from the scope of this review are refrigerated, frozen, or canned pastas, as well as all forms of egg pasta, with the exception of non-egg dry pasta containing up to two percent egg white.

As a result of this review, also excluded from the scope of this order is gluten-free pasta.

The merchandise subject to review is currently classifiable under item 1902.19.20 of the Harmonized Tariff Schedule of the United States (“HTSUS”). Although the HTSUS subheading is provided for convenience and customs purposes, the written description of the merchandise subject to the order is dispositive.

Final Results of Changed Circumstances Review

Pursuant to section 751(b)(1) of the Tariff Act of 1930, as amended (“the Act”), and 19 CFR 351.216, the Department will conduct a changed circumstances review upon receipt of information concerning, or a request from an interested party for review of, an antidumping duty order which shows changed circumstances sufficient to warrant a review of the order. In its May 22, 2009, submission Pasta Lensi stated that petitioners have no interest in the antidumping duty order with respect to gluten-free pasta. Further, the petitioners expressed a lack of interest in maintain the antidumping duty order with respect to gluten-free pasta.⁵ No party submitted any evidence to the contrary. Therefore, In accordance with 19 CFR 351.221(c)(3)(i), we determine that the petitioners have no interest in the antidumping duty order with respect to gluten-free pasta.

⁵ See memorandum from Christopher Hargett, Case Analyst, to Melissa Skinner, Office Director, entitled “Phone Conversation with Counsel for Petitioners,” dated June 2, 2009.

Pasta Lensi requested that the Department retroactively revoke the order and cited to Wooden Bedroom Furniture for support.⁶ Consistent with Department practice, we have determined to revoke the order, in part, retroactive to July 1, 2008, (the date following the last day of the most recently completed administrative review) for unliquidated entries in light of Pasta Lensi's request and the fact that entries after this date are not subject to a final determination by the Department. Accordingly, the Department will revoke, in part, the antidumping duty order on certain pasta from Italy with respect to gluten-free pasta, effective July 1, 2008.

⁶ See Wooden Bedroom Furniture from the People's Republic of China: Final Results of Changed Circumstances Review and Determination to Revoke Order in Part, 74 FR 8506 (February 25, 2009)(“Wooden Bedroom Furniture”).

We will instruct U.S. Customs and Border Protection (“CBP”) to liquidate without regard to antidumping duties all unliquidated entries of gluten-free pasta, not currently subject to an administrative review of certain pasta from Italy, entered, or withdrawn from warehouse, for consumption on or after July 1, 2008. The Department will further instruct CBP to refund with interest any estimated antidumping duties collected with respect to unliquidated entries of gluten-free pasta entered, or withdrawn from warehouse for consumption on or after the publication date of the final results of this changed circumstances review, in accordance with section 778 of the Act and 19 CFR 351.222(g)(4).

This changed circumstances administrative review, partial revocation of the antidumping duty order and notice are in accordance with sections 751(b) and (d), 777(i), and 782(h) of the Act and section 351.216(e) and 351.222(g) of the Department's regulations.

Dated: August 7, 2009.
Ronald K. Lorentzen,
Acting Assistant Secretary for Import Administration.

[FR Doc. E9-19562 Filed 8-13-09; 8:45 am]

BILLING CODE 3510-DS-S